DEPARTMENT OF DEFENSE

Office of the Secretary

Meeting of the National Commission on the Structure of the Air Force

AGENCY: Director of Administration and Management, DoD.

ACTION: Notice of Advisory Committee Meeting.

SUMMARY: The Department of Defense (DoD) announces that the following Federal advisory committee meeting of the National Commission on the Structure of the Air Force (“the Commission”) will take place.

DATES: Date of Open Meeting, including Hearing and Commission Discussion: Thursday, October 24, 2013, from 1:00 p.m. to 5:00 p.m. and Friday, October 25, 2013, from 8:30 to 5:00 p.m. Registration will begin at 12:30 p.m. on October 24, 2013 and again at 8:00 a.m. on October 25, 2013.

ADDRESSES: 2521 South Clark Street, Suite 200, Crystal City, VA 22202.

FOR FURTHER INFORMATION CONTACT: Mrs. Marcia Moore, Designated Federal Officer, National Commission on the Structure of the Air Force, 1950 Defense Pentagon, Room 3A874, Washington, DC 20301-1950. Email: marcia.l.moore12.civ@mail.mil. Desk (703) 545-9113. Facsimile (703) 692-5625. Information can also be found at the following Web site: http://afcommission.whs.mil/.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.150.

Purpose of Meeting: The members of the Commission will hear testimony from individual witnesses and then will discuss testimonies, site visits, and other data collected to date.

Agenda: The agenda for October 24-25, 2013 tentatively includes testimony from representatives of the Federal Emergency Management Agency, the Government Accountability Office, leaders of the U.S. Air Force, U.S. Air Force Reserve, U.S. Air National Guard, the Office of the Assistant Secretary of Defense for Reserve Affairs, and other leadership from the Department of Defense. The meeting will adjourn following the Commissioners' deliberations.

These witnesses are also asked to address the evaluation factors under consideration by the Commission for a U.S. Air Force structure that—(a) Meets current and anticipated requirements of the combatant commands; (b) achieves an appropriate balance between the regular and reserve components of the Air Force, taking advantage of the unique strengths and capabilities of each; (c) ensures that the regular and reserve components of the Air Force have the capacity needed to support current and anticipated homeland defense and disaster assistance missions in the United States; (d) provides for sufficient numbers of regular members of the Air Force to provide a base of trained personnel from which the personnel of the reserve components of the Air Force could be recruited; (e) maintains a peacetime rotation force to support operational tempo goals of 1:2 for regular members of the Air Forces and 1:5 for members of the reserve components of the Air Force; and (f) maximizes and appropriately balances affordability, efficiency, effectiveness, capability, and readiness. Individual Commissioners will also report their activities, information collection, and analyses to the full Commission.

Meeting Accessibility: The building is fully handicap accessible. Visitors must show a picture I.D. and complete a security screening. Public parking is available within walking distance.

Registration: Individuals who wish to attend the public hearing and meeting on October 24-25, 2013 are encouraged to register for the event with the Designated Federal Officer, using the electronic mail and facsimile contact information found in the FOR FURTHER INFORMATION CONTACT section. The communication should include the registrant's full name, title, affiliation or employer, email address, and day-time phone number. If applicable, include written comments, Congressional statements, and requests to make oral comments. Registrations and written input must be typed.

Public Comments: One hour will be reserved for the public to make oral comments to the Commission on October 25, 2013. Requests to make an oral comment should be included in the registration information. The Designated Federal Officer (DFO) will review all submitted written statements. Written comments should be submitted to Mrs. Marcia Moore, DFO, via facsimile or electronic mail, the preferred modes of submission. Each page of the comment must include the author's name, title or affiliation, address, and daytime phone number. All contact information may be found in the FOR FURTHER INFORMATION CONTACT section. All public comments and Congressional statements are due by November 15, 2013 if emailed or faxed. Mailed comments must be postmarked by October 31, 2013.

Background: The National Commission on the Structure of the Air Force was established by the National Defense Authorization Act for Fiscal Year 2013 (Pub. L. 112-239). The Department of Defense sponsor for the Commission is the Director of Administration and Management, Mr. Michael L. Rhodes. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

Dated: September 30, 2013.
Aaron Siegel,
Alternate OSD Federal Register Liaison Officer, Department of Defense.

[FR Doc. 2013-24255 Filed 10-2-13; 8:45 am]

BILLING CODE 5001-06-P